DEPARTMENT OF DEFENSE

Department of the Army; Corps of Engineers

Intent To Prepare an Integrated Feasibility Report/Environmental Impact Statement—James River Feasibility Study, South Dakota

AGENCY: Department of the Army, U.S. Army Corps of Engineers, DoD.

ACTION: Notice.

SUMMARY: In accordance with the National Environmental Policy Act and implementing regulations, an Environmental Impact Statement (EIS) will be prepared and incorporated into the James River, South Dakota Feasibility Study once alternative actions are identified that meet the project objectives described below. The James River Water Development District (JRWDD) is the non-Federal sponsor for this study. The JRWDD encompasses portions of Brown, Marshall, Spink, Davison, Yankton, Beadle, Sanborn, Hutchinson and Hanson Counties in South Dakota.

Based on the authorizing legislation and previous studies, this Feasibility Study will address the need for enhancement of ecological resources and ecosystem management and flood damage reduction, both independently and in combination. The study will evaluate pertinent information and identify problems and opportunities that exist in the study area. Various alternatives (i.e., potential projects) will be evaluated to determine whether or not they are technically feasible and economically cost effective or economically justified depending on their purpose (e.g., ecosystem enhancement/restoration and/or flood damage reduction).

FOR FURTHER INFORMATION CONTACT: For additional information on the NEPA process, or to be added to the mailing list, contact Eric Laux, CENWO-PM-AE, U.S. Army Corps of Engineers, 106 South 15th Street, Omaha, Nebraska 68102, telephone at (402) 221-7186, or Fax (402) 221-4886. For additional information on the Feasibility Study, contact Richard Taylor, CENWO-PM-AP, U.S. Army Corps of Engineers, 106 South 15th Street, Omaha, Nebraska 68102, telephone (402) 221-3772, or Fax (402) 221-4890.

SUPPLEMENTARY INFORMATION: a. This Feasibility Study is authorized under Section 401(b) of the Water Resources Development Act of 1986. The Federal objective of water and related land resources planning is to contribute to national economic development consistent with protecting the nation's environment in accordance with national environmental statutes, applicable executive orders, and other Federal planning requirements.

b. The study area consists of the portion of the James River and adjacent areas that are located in eastern South Dakota. The James River flows generally southward for a distance of 747 river miles, 474 miles of which lie in the study area. This river has the flattest gradient of any river of its length in North America, falling only about 135 feet along its South Dakota course. The James River basin occupies a total of 22,000 square miles, of which 14,000 square miles lie in South Dakota. The basin in South Dakota is bounded by the Missouri River drainage to the west and the Big Sioux and Vermillion River basins to the east and southeast. The Sand Lake Wildlife Refuge is located at the upper end of the study area. Land use in the basin is primarily agriculture and the larger communities located in the study area include Mitchell, Huron, and Aberdeen.

c. The intention of this Feasibility Study and EIS is to formulate and evaluate alternatives that help to restore or enhance ecological function and habitat and/or ameliorate flooding problems along the James River. Factors such as sediment deposits from tributaries, log jams, encroachment of vegetation into the channel, inadequate bridge capacity, low head dams in the channel, and the flat slope and meandering nature of the river are contributors to the flooding problems exhibited by the river. In 2000, the Corps completed a reconnaissance study evaluating potential solutions to limit flooding along the James River and to identify where flood control storage could supplement instream flows for fish and wildlife habitat. No structural flood control projects were found to be feasible. However, the study recommended future local study efforts focusing on long-term management and protection of the two- to five-year flood plain with emphasis on removing local channel obstructions. In addition, the report identified numerous opportunities to pursue environmental restoration projects that would also help alleviate agricultural flood damages.

d. Scoping and agency meetings will be held for this project. A public notice will be widely distributed inviting public participation in the scoping process. This process will be the key to preparing a concise EIS and clarifying the significant issues to be analyzed in depth. Public concerns on issues, studies needed, alternatives to be examined, procedures and other related matters will be addressed during scoping. Scoping meetings are tentatively planned to be held at Aberdeen, Huron, Mitchell and Yankton, South Dakota in the middle part of December. Upon setting exact locations, dates, and times for the meetings, the specific locations of the meetings will be provided in news releases and posted on the Omaha District Corps of Engineers and James River Water Development District Web-sites. The web addresses for the sites are http://www.nwo.usace.army.mil/html/pa/pahm/hottopics.htm and http://www.jrwdd.com.

e. The estimated date when a Draft Environmental Impact Statement is expected to be available for public review is September 2006.

Candace M. Gorton,
Chief, Environmental, Economics, and Cultural Resources Section, Planning Branch.

[FR Doc. 04-26262 Filed 11-26-04; 8:45 am]

BILLING CODE 3710-62-M